DEPARTMENT OF THE INTERIOR

Bureau of Land Management

[LLCAD01000 L13400000.DT0000 20X; MO 4500143086]

Notice of Availability of the Record of Decision for the Haiwee Geothermal Leasing Area Project, Inyo County, California, and Amendment to the California Desert Conservation Area Plan

AGENCY: Bureau of Land Management, Interior.

ACTION: Notice of availability.

SUMMARY: In accordance with the National Environmental Policy Act of 1969, as amended, and the Federal Land Policy and Management Act of 1976, as amended (FLPMA), the Bureau of Land Management (BLM) has prepared a Record of Decision (ROD) to amend the California Desert Conservation Area (CDCA) Plan for the Haiwee Geothermal Leasing Area (HGLA) Project, and by this notice is announcing its availability. The decision amends the CDCA Plan to allow for geothermal leasing within approximately 22,800 acres, authorizes three geothermal lease applications for 4,460 acres of public lands within the HGLA, and modifies the management of four Areas of Critical Environmental Concern (ACECs) to allow for surface occupancy of geothermal development. Part of this decision is subject to appeal under Departmental regulations.

DATES: The California State Director signed the ROD on April 23, 2020.

ADDRESSES: The Record of Decision and Land Use Plan Amendment is available on the internet at https://go.usa.gov/xEnvy.

FOR FURTHER INFORMATION CONTACT: Greg Miller, BLM Assistant District Manager, Resources, telephone (951) 697-5216; address, Bureau of Land Management, California Desert District, 22835 Calle San Juan De Los Lagos

Moreno Valley, CA 92553; or email blm_ca_haiwee_geothermal@blm.gov.

Persons who use a telecommunications device for the deaf (TDD) may call the Federal Relay Service at (800) 877-8339 to contact Mr. Miller during normal business hours. The FRS is available 24 hours a day, 7 days a week, to leave a message or question. You will receive a reply during normal business hours.

SUPPLEMENTARY INFORMATION: The HGLA Draft EIS and Draft Proposed Amendment to the CDCA was published on May 10, 2012 (77 FR 27478), and public meetings were held in June 2012. As a result of the review of the comments, the BLM conducted a more detailed study to address projected water use by geothermal facilities should they be allowed in the HGLA. Argonne National Laboratories conducted the study and provided BLM a report in January 2016. Additionally, new land use designations approved with the Desert Renewable Energy Conservation Plan amendment to the CDCA Plan in September of 2016, required analysis of a new alternative that considered the new land use designations. Based on these two developments, the BLM prepared a CDCA Plan Amendment and Draft Supplemental EIS for the project. The Draft Supplemental EIS analyzed the Proposed Action and two action alternatives, in addition to the No Action Alternative.

The BLM received three geothermal lease applications for 4,460 acres of public land within the HGLA in 2002. In addition, the BLM identified approximately 18,345 acres of public lands, also within the Haiwee Proposed Project Area and adjacent to the three geothermal lease applications, which will be considered for competitive geothermal leasing under 43 CFR 3203.10(e). The proposed action is to amend the CDCA Plan to allow project area lands to be leased under the authority of the Geothermal Steam Act of 1970, as amended (30 U.S.C. 1001 et seq.) and to modify the management of four ACECs to allow for surface occupancy of geothermal development. The leasing of public lands for geothermal resources required an amendment to the CDCA Plan, which is authorized by the FLPMA Section 202(43 U.S.C. 1712) and 43 CFR 1610.5-5. Total acreage considered for geothermal leasing is approximately 22,800 acres.

On May 3, 2019, the Draft Supplemental EIS and Draft Land Use Plan Amendment was available for a 90-day public comment period (84 FR 19106). The BLM received seven comment letters during the comment period. The BLM considered and incorporated, as appropriate, public comments on the Draft EIS, Draft Supplemental EIS, and Draft Land Use Plan Amendment and internal agency review into the proposed plan amendment. Public comments resulted in the addition of clarifying text, but did not significantly change proposed land use plan decisions. A response to substantive comments is included as an appendix to the Final EIS and Proposed Land Use Plan Amendment.

The publication of the HGLA Final EIS and Proposed Land Use Amendment initiated a 30-day protest period, which closed on February 24, 2020 (85 FR 4338). The BLM received three valid protests. The BLM has considered and resolved the protest on the HGLA Final EIS and Proposed Land Use Amendment. The BLM's protest resolution report to those protests can be found at https://www.blm.gov/programs/planning-and-nepa/public-participation/protest-resolution-reports.

In accordance with the regulations at 43 CFR 1610.3-2(e), the BLM submitted the Final EIS and Proposed Land Use Amendment for a 60-day Governor's Consistency Review on February 6, 2020. The Governor did not respond with any findings of inconsistency.

With this ROD, the BLM adopts the Agency Preferred Alternative. The decision to authorize the existing non-competitive geothermal lease applications may be appealed to the Interior Board of Land Appeals in accordance with the regulations contained in 43 CFR part 4. Appeal and stay procedures are outlined in Form 1842-1. All Notices of Appeal, Statement of Reasons, and mailing must follow the requirements and timelines outlined in 43 CFR part 4.

(Authority: 40 CFR 1506.6; 40 CFR 1506.10; 43 CFR 1610.2; 43 CFR 1610.5; 42 U.S.C. 4370m-6(a)(1))

Danielle Chi,
Deputy State Director, Resources.

[FR Doc. 2020-08659 Filed 4-23-20; 8:45 am]

BILLING CODE 4310-40-P